DEPARTMENT OF VETERANS AFFAIRS

[OMB Control No. 2900-VHA2]

Agency Information Collection Activities Under OMB Review

AGENCY: Veterans Health Administration, Department of Veterans Affairs.

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before December 24, 2001.

FOR FURTHER INFORMATION OR A COPY OF THE SUBMISSION CONTACT: Denise McLamb, Information Management Service (045A4), Department of Veterans Affairs, 810 Vermont Avenue, NW., Washington, DC 20420, (202) 273-8030, FAX (202) 273-5981 or e-mail: denise.mclamb@mail.va.gov. Please refer to “OMB Control No. 2900-VHA2.”

SUPPLEMENTARY INFORMATION: Title: Study of Military Sexual Trauma Among the Reserve Components of the Armed Forces, VA Form 10-21052(NR).

OMB Control Number: 2900-VHA2.

Type of Review: New collection.

Abstract: The Veterans Millennium Health Care and Benefits Act mandates that the Secretary of Veterans Affairs, in consultation with the Secretary of Defense, will conduct a study to determine: (1) The extent to which former members of the Reserve Components of the Armed Forces experienced physical assault of a sexual nature or battery of a sexual nature while serving on active duty for training; (2) the extent to which such former members have sought counseling through VA relating to these incidents; and (3) the additional resources that, in the judgment of the Secretary, would be required to meet the projected need of these former members for such counseling.

An agency may not conduct or sponsor, and a person is not required to respond to a collection of information unless it displays a currently valid OMB control number. The Federal Register Notice with a 60-day comment period soliciting comments on this collection of information was published on August 28, 2001, at pages 45372-45373.

Affected Public: Individuals or households.

Estimated Annual Burden: 3,375 hours.

Estimated Average Burden Per Respondent: 45 minutes.

Frequency of Response: One time.

Estimated Number of Respondents: 4,500.

Send comments and recommendations concerning any aspect of the information collection to VA's OMB Desk Officer, OMB Human Resources and Housing Branch, New Executive Office Building, Room 10235, Washington, DC 20503 (202) 395-7316. Please refer to “OMB Control No. 2900-VHA2” in any correspondence.

Dated: November 6, 2001.
By direction of the Secretary:
Barbara H. Epps,
Management Analyst, Information Management Service.

[FR Doc. 01-29207 Filed 11-21-01; 8:45 am]

BILLING CODE 8320-01-P